FEDERAL COMMUNICATIONS COMMISSION

47 CFR Part 73

[MB Docket No. 12-237; RM-11672; DA 12-1421]

Radio Broadcasting Services; Tignall, GA

AGENCY: Federal Communications Commission.

ACTION: Proposed rule.

SUMMARY: This document sets forth a proposal to amend the FM Table of Allotments, Section 73.202(b) of the Commission's rules. The Commission requests comment on a petition filed by Georgia-Carolina Radiocasting Company, LLC, proposing to amend the Table of Allotments by substituting Channel 287A for vacant Channel 244A, at Tignall, Georgia. The proposal is part of a contingently filed “hybrid” application and rule making petition. Channel 287A can be allotted at Tignall, Georgia, in compliance with the Commission's minimum distance separation requirements with a site restriction 12.6 km (7.8 miles) south of Tignall, at reference coordinates 33-45-22 North Latitude and 82-42-56 West Longitude. See SUPPLEMENTARY INFORMATION infra.

DATES: The deadline for filing comments is October 22, 2012. Reply comments must be filed on or before November 6, 2012.

ADDRESSES: Federal Communications Commission, 445 12th Street SW., Washington, DC 20554. In addition to filing comments with the FCC, interested parties should serve counsel for petitioner as follows: Dan J. Alpert, Esq., Law Offices of Dan J. Alpert, 2120 21st Road N., Arlington, Virginia 22201.

FOR FURTHER INFORMATION CONTACT: Deborah A. Dupont, Media Bureau (202) 418-7072.

SUPPLEMENTARY INFORMATION: This is a synopsis of the Commission's Notice of Proposed Rule Making, MB Docket No. 12-237, adopted August 29, 2012, and released August 31, 2012. The full text of this Commission decision is available for inspection and copying during normal business hours in the FCC Reference Information Center (Room CY-A257), 445 12th Street SW., Washington, DC 20554. The complete text of this decision may also be purchased from the Commission's copy contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Georgia, is amended by removing Channel 244A and adding Channel 287A at Tignall.

[FR Doc. 2012-24139 Filed 9-28-12; 8:45 am]

BILLING CODE 6712-01-P